DEPARTMENT OF TRANSPORTATION

Federal Transit Administration

Federal Highway Administration

Environmental Impact Statement: St. Charles, Jefferson and Orleans Parishes, Louisiana Agencies: Federal Transit Administration (FTA) and Federal Highway Administration (FHWA), Department of Transportation (DOT)

ACTION: Notice of intent to prepare environmental documents, including an environmental impact statement for highway component and an environmental impact statement for transit rail component.

SUMMARY: The Federal Highway Administration (FHWA) and the Federal Transit Administration (FTA), in cooperation with the Louisiana Department of Transportation and Development (LDOTD) and the Regional Planning Commission (RPC) are issuing this notice to advise interested agencies and the public that, in accordance with the National Environmental Policy Act (NEPA), an Environmental Impact Statement (EIS) will be prepared for the following projects in the East-West Corridor in St. Charles, Jefferson and Orleans Parishes in Louisiana:

1. A rail transit connector between the New Orleans Central Business District (CBD) and the Louis Armstrong New Orleans International Airport (LANOIA); and

2. Extending the existing Earhart Expressway from its terminus at LA 3154 (Dickory Avenue) to the vicinity of Interstate 310.

These proposed transportation projects were identified in a Major Investment Study (MIS) completed in 1999. In addition to the proposed improvements identified as the Locally Preferred Alternative in the MIS, the No-Build Alternative and new alternatives generated through the Scoping Process will be evaluated. Scoping will be accomplished through coordination with interested persons, organizations and federal, state and local agencies. Four (4) public scoping meetings and one (1) interagency scoping meeting are currently planned.

Based on the results of the Scoping Process, FHWA and FTA will make the following determinations regarding the preparation of environmental documentation under NEPA:

1. Identification of environmental issues to be addressed;

2. Identification of appropriate alternatives for evaluation;

3. How cumulative environmental effects of the projects will be addressed; and

4. The need for a separate Environmental Impact Statement for each of the proposed projects, or for a single, combined Environmental Impact Statement for both projects.

FHWA and FTA currently propose to proceed with the preparation of separate environmental documents for each project. FHWA is serving as the federal lead agency for the extension of the existing Earhart Expressway. FTA is serving as the federal lead agency for the rail transit connector between the CBD and the LANOIA. At the conclusion of the Scoping Process, based on the agency and public comment received, FHWA and FTA will either continue with the preparation of two individual Environmental Impact Statements, will proceed with a single Environmental Impact Statement for both projects, or may proceed with an Environmental Assessment for either of the projects, if appropriate.

DATES: Interagency and public scoping and information meetings will be held during the week of October 8th.

Interagency Scoping Meeting: Wednesday, October 10th, 2001 from 10 a.m. to noon, at the Regional Planning Commission's 21st Floor Conference Room at 1340 Poydras Street in New Orleans, Louisiana 70122.

Public Scoping Meetings: Wednesday, October 10th, 2001 from 7 p.m. to 9 p.m. at Xavier University Auditorium in the Xavier University Administration Building at 1 Drexel Drive in New Orleans, Louisiana 70125; Thursday, October 11th, 2001 from 7 p.m. to 9 p.m. at the Joseph S. Yenni Building Council Chambers at 1221 Elmwood Park Boulevard in Jefferson, Louisiana 70123; Saturday, October 13th, 2001 from 9 a.m. to 11 a.m. at the R.J. Bunche Middle School Gymnasium at 8101 Simon Street in Metairie, Louisiana 70003; and Saturday, October 13th, 2001 from 11 a.m. to 1 p.m. at the R.J. Bunche Middle School Gymnasium at 8101 Simon Street in Metairie, Louisiana 70003.

ADDRESSES: Written comments on the scope should be sent by November 1, 2001, to either Mr. William Farr, Programs Operations Manager, Federal Highway Administration, 5304 Flanders Drive, Suite A, Baton Rouge, Louisiana 70808, or Mr. John Sweek, Community Planner, Federal Transit Administration, Region VI, 819 Taylor Street, Fort Worth, Texas, 76102. See DATES above for addresses of scoping meeting locations.

FOR FURTHER INFORMATION CONTACT: Mr. William Farr, Programs Operations Manager, Federal Highway Administration, 5304 Flanders Drive, Suite A, Baton Rouge, Louisiana 70808, Telephone: (225) 757-7600; or Mr. John Sweek, Community Planner, Federal Transit Administration, Region VI, 819 Taylor Street, Fort Worth, Texas, 76102, Telephone: (817) 978-0571.

SUPPLEMENTARY INFORMATION:

I. Scoping

The FHWA and FTA will hold a total of four public scoping meetings on Wednesday, Thursday, and Saturday, October 10, 11, and 13. Two evening public scoping meetings will be held between 7 p.m. and 9 p.m. on Wednesday and Thursday, October 10 and 11, in the Xavier University Auditorium in New Orleans and Joseph S. Yenni Building Council Chambers in Jefferson, respectively on these dates. Two morning public scoping meeting sessions will be held on Saturday, October 13, at 9 a.m. and at 11 a.m. in the R.J. Bunch Middle School Gymnasium in Metairie. An Open House Session will be made available in the R.J. Bunch Middle School Gymnasium from 1 p.m until 3 p.m., following the public scoping meeting sessions. All meeting locations are accessible to individuals with disabilities. Individuals with special needs should contact the project's public participation coordinator at 504-488-6100.

Interested individuals, organizations, and public agencies are invited to attend the scoping meetings and participate in identifying any important environmental issues related to the proposed alternatives and suggesting alternatives which are more economical or which have less environmental effects while achieving similar transportation objectives. An information packet, referred to as the Scoping Booklet, will be distributed to all public agencies and interested individuals and will be available at the meetings. Others may request the Scoping Booklet by contacting Mr. William Farr or Mr. John Sweek at the addresses listed above in ADDRESSES. Comments regarding preferences for a particular alternative should be reserved for the comment period for the draft environmental documentation. Comments during the scoping period should focus on the issues and alternative for analysis and not on a preference for a particular alternative.

Scoping comments may be made a the scoping meetings or directed to Mr. William Farr on Mr. John Sweek at the addresses listed above in ADDRESSES by November 1, 2001.

II. Description of the Project Area and Need

The East-West Corridor is located in St. Charles, Jefferson and Orleans Parishes, Louisiana. It extends approximately 17 miles from the vicinity of I-310 in St. Charles Parish to the New Orleans CBD, serving an area that contains more than one million residents, including several neighborhoods with large numbers of transit-dependent residents. Major destinations within the Corridor include LANOIA, Louisiana Technical College, Zephyr Stadium, Elmwood Industrial Area, and Xavier University. Key destinations in the CBD include the Louisiana Superdome, the Ernest Morial Convention Center, the New Orleans Arena, and the New Orleans Regional Medical Center. The corridor is currently served by taxi service and one bus transit route from the Louis Armstrong New Orleans International Airport in Jefferson Parish to the New Orleans CBD.

The East-West Corridor has the highest volume of travel demand and bus ridership within the New Orleans metropolitan area. The major east-west arteries (I-10 and US 61) have serious congestion, and Earhart Expressway abruptly ends at LA 3154 (Dickory Avenue), a minor arterial at its western terminus, rendering it ineffective as a viable east-west route. The existing bus route is not sufficient to address the mobility needs in the corridor and the large numbers of transit-dependent riders and commuters. As a result, travelers in the East-West Corridor often experience excessive travel times and delay. These travel times are expected to increase as travel demand increases in the East-West Corridor.

A Major Investment Study (MIS) completed in 1999 for the RPC identified a (LPA) locally preferred alternative with two primary components: A rail transit system linking the LANOIA to downtown New Orleans; and (2) extending LA Route 3139, also known as Earhart Expressway, west to the vicinity of Interstate 310. Both of the proposed projects were deemed necessary to alleviate congestion within the corridor. However, each project has its own unique objectives.

The objectives of the proposed rail transit component include:

• Address the increasing mobility needs within the corridor

• Increase and improve mobility choice for New Orleans, East Jefferson parish, and River Parishes commuters

• Increase access to and from major regional trip generators and attractions

• Promote compatible land use

• Increase and improve the mobility access opportunities to disadvantaged populations

• Promote economic development by increasing labor productivity through travel efficiencies

• Decrease local dependence on automobiles and reduce energy usage

• Provide flexibility in future regional planning transit efforts

• Improve access to and from the airport

The objectives of the proposed roadway expansion are to:

• Improve East-West Corridor system linkage for roadway passenger traffic

• Improve the efficiency of commercial vehicle operations within the New Orleans metro region

• Promote economic development and associated with goods movement

• Improve efficiency in modal relationships in the region by improving bus transit times, shuttle vehicle transit times, and overall travel costs

• Improving access to transit park-n-ride

III. Alternatives

It is anticipated that several alternatives will be identified during the scoping and environmental analysis processes. However, at this time, alternatives to be considered for the rail transit include:

• A “no-build” alternative. There will be no changes in transportation services or facilities in the Corridor beyond already committed projects. This includes only those transit improvements defined in the appropriate agencies' Long Range Transportation Plans and Transit Development Plans for which funding has been committed.

• Transportation Systems Management Alternative—Low cost infrastructure and bus transit improvements, Intelligent Transportation Systems (ITS), bus operations, and Transportation Systems Management improvements will be included in this alternative.

• The construction of a rail transit system. The eastern terminus of the proposed rail transit alternative would be the CBD in Orleans Parish and the western terminus would be the LANOIA in Jefferson Parish. It would follow the abandoned Kansas City Southern Railroad for approximately 5 miles, where it would connect to the rail owned by the Union Passenger Terminal via right-of-way owned by Canadian National Illinois Central Railroad and follow this existing alignment or some other alignment to the CBD. Light rail transit (LRT) and diesel multiple units (DMU), among others will be considered. This alternative would also include all facilities associated with the construction and operations of a light rail transit line, including right of way, structures, track, stations, park-and-ride lots, storage, and maintenance facilities as well as respective rail and bus operating plans.

Alternatives to be considered for Earhart Expressway include:

• A “no-build” alternative. Existing conditions will remain as they are. Only those improvements that have already been approved will be implemented.

• Transportation Systems Management Improvements-Low cost infrastructure and traffic management improvements, including signalization, ITS, and similar.

• Improvement alternatives including the upgrade of US 61 (Airline Drive) or the extension of LA 3139 (Earhart Expressway) from LA 3154 (Dickory Avenue) would be considered. The road expansion will follow a westward alignment and terminate in the vicinity of I-310. The approximate length of the proposed road component is 10 miles.

IV. Probable Effects

The environmental documents will be prepared in accordance with the 1969 National Environmental Policy Act (NEPA). Accordingly, all potential impacts to the physical, natural, and socioeconomic environments will be evaluated. Concerns to be addressed in NEPA Documents include: aesthetics/visual resources, property value effects, local traffic and travel patterns, land use, noise and vibration, wetlands, construction impacts, Environmental Justice/Title VI issues, and cumulative impacts of concurrent and consecutive implementation of both alternatives.

V. Procedures

In accordance with the regulations and guidance by the Council on Environmental Quality (CEQ), as well as 23 CFR part 450 and 23 policies, the NEPA Documents will include an evaluation of the social, economic, and environmental impacts of the alternatives. The NEPA Documents will also comply with the requirements of the Clean Air Act Amendments of 1990 (CAAA) and with Executive Order 12898 on Environmental Justice. The NEPA Documents will also meet the requirements of the U.S. Environmental Protection Agency's transportation conformity regulations (40 CFR part 93 and 23 CFR 450.322(b)(8)). After their publication, the draft NEPA Documents will be available for public agency review and comment.

The Final NEPA Documents will consider the public and agency comments received during the public and agency circulation of the NEPA Documents and will identify the preferred alternatives. Opportunity for additional public comment will be provided throughout all phases of the project development.

Issued on: September 5, 2001.
William A. Sussman,
Division Administrator, Federal Highway Administration.

[FR Doc. 01-23027 Filed 9-12-01; 8:45 am]

BILLING CODE 4910-22-M